DEPARTMENT OF THE INTERIOR

National Park Service

[NPS-WASO-NAGPRA-NPS0039427; PPWOCRADN0-PCU00RP14.R50000]

Notice of Intended Disposition: U.S. Department of Defense, Navy, Naval Base Ventura County, Point Mugu, CA

AGENCY: National Park Service, Interior.

ACTION: Notice.

SUMMARY: In accordance with the Native American Graves Protection and Repatriation Act (NAGPRA), the U.S. Department of Defense, Navy, Naval Base Ventura County (NBVC) intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 16, 2025. If no claim for disposition is received by March 17, 2026, the human remains or cultural items in this notice will become unclaimed human remains or cultural items.

ADDRESSES: John O'Connor, Ph.D., RPA, Cultural Resources Manager, Naval Base Ventura County, 311 Main Road, Building 632, Point Mugu, CA 93042, telephone (805) 989-9249, email john.t.oconnor88.civ@us.navy.mil.

SUPPLEMENTARY INFORMATION: This notice is published as part of the National Park Service's administrative responsibilities under NAGPRA. The determinations in this notice are the sole responsibility of the NBVC, and additional information on the human remains or cultural items in this notice, including the results of consultation, can be found in the related records. The National Park Service is not responsible for the identifications in this notice.

Abstract of Information Available

Based on the information available, human remains representing, at least, two individuals have been reasonably identified. At least one associated funerary object, at least one unassociated funerary object, and at least one sacred object/object of cultural patrimony have been collected from NBVC/SNI including lithic tools, debitage, groundstone, tarring pebbles, animal burials, asphaltum, shell beads, shell fishhooks, modified and unmodified bone, ochre pieces, radiocarbon samples, soil samples, column samples, and residual material from archaeological screening. The human remains are the cremains of at least two Native American individuals excavated from sites SNI-041 and SNI-043 and removed from NBVC San Nicolas Island, Ventura County, California. Site SNI-041 was excavated by Patricia Martz of California State University (CSU) Los Angeles in 1997. Site SNI-043 was excavated by Patricia Martz of CSU Los Angeles in 1994 and 1995. The associated funerary objects, unassociated funerary objects, and sacred objects/objects of cultural patrimony were excavated from 99 sites at NBVC San Nicolas Island by various entities working under contract for the Navy between 1992 and 2014. These excavations resulted in the removal of hundreds of thousands of cultural items comprising 1,181 boxes.

Determinations

The NBVC has determined that:

• The human remains described in this notice represent the physical remains of two individuals of Native American ancestry.

• The one (at least) associated funerary object described in this notice is reasonably believed to have been placed intentionally with or near individual human remains at the time of death or later as part of the death rite or ceremony.

• The one (at least) unassociated funerary object described in this notice is reasonably believed to have been placed intentionally with or near human remains, and are connected, either at the time of death or later as part of the death rite or ceremony of a Native American culture according to the Native American traditional knowledge of a lineal descendant, Indian Tribe, or Native Hawaiian organization. The unassociated funerary object has been identified by a preponderance of the evidence as related to human remains, specific individuals, or families, or removed from a specific burial site or burial area of an individual or individuals with cultural affiliation to an Indian Tribe or Native Hawaiian organization.

• The one (at least) sacred object/object of cultural patrimony described in this notice is, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• The La Jolla Band of Luiseno Indians, California; Pala Band of Mission Indians; Pauma Band of Luiseno Mission Indians of the Pauma & Yuima Reservation, California; Pechanga Band of Indians (previously listed as Pechanga Band of Luiseno Mission Indians of the Pechanga Reservation, California); Rincon Band of Luiseno Mission Indians of Rincon Reservation, California; Santa Ynez Band of Chumash Mission Indians of the Santa Ynez Reservation, California; and the Soboba Band of Luiseno Indians, California have priority for disposition of the human remains or cultural item described in this notice.

Claims for Disposition

Written claims for disposition of the human remains or cultural items in this notice must be sent to the appropriate official identified in this notice under ADDRESSES. If no claim for disposition is received by March 17, 2026, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 16, 2025. If competing claims for disposition are received, NBVC must determine the most appropriate claimant prior to disposition. Requests for joint disposition of the human remains or cultural items are considered a single request and not competing requests. NBVC is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 28, 2025.
Melanie O'Brien,
Manager, National NAGPRA Program.

[FR Doc. 2025-04204 Filed 3-14-25; 8:45 am]

BILLING CODE 4312-52-P